INTERNATIONAL TRADE COMMISSION

[Investigation Nos. 731-TA-776-779 (Second Review)]

Preserved Mushrooms From Chile, China, India, and Indonesia

AGENCY: United States International Trade Commission.

ACTION: Revised schedule for the subject reviews.

DATES: Effective Date: February 17, 2010.

FOR FURTHER INFORMATION CONTACT: Elizabeth Haines (202-205-3200), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for these reviews may be viewed on the Commission's electronic docket (EDIS) at http://edis.usitc.gov.

SUPPLEMENTARY INFORMATION: On January 4, 2010, the Commission established a schedule for the conduct of the expedited five-year reviews and determined to exercise its authority to extend the review period by up to 90 days pursuant to 19 U.S.C. 1675(c)(5)(B) (75 FR 3756, January 22, 2010). Due to the closure of the Government during the recent snowstorms, the Commission is revising its schedule. The Commission's new schedule for the reviews is as follows: the staff report will be placed in the nonpublic record on March 9, 2010; and the deadline for filing comments is March 15, 2010.

Authority: These reviews are being conducted under authority of title VII of the Tariff Act of 1930; this notice is published pursuant to section 207.62 of the Commission's rules.

By order of the Commission.
Issued: February 17, 2010.
Marilyn R. Abbott,
Secretary to the Commission.

[FR Doc. 2010-3528 Filed 2-22-10; 8:45 am]

BILLING CODE 7020-02-P